DEPARTMENT OF DEFENSE

Office of the Secretary

Uniform Formulary Beneficiary Advisory Panel Meeting

AGENCY: Department of Defense, Assistant Secretary of Defense (Health Affairs).

ACTION: Notice of meeting.

SUMMARY: Under the provisions of the Federal Advisory Committee Act of 1972 (5 U.S.C., Appendix, as amended) and the Government in the Sunshine Act of 1976 (5 U.S.C. 552b, as amended) the Department of Defense announces that the Uniform Formulary Beneficiary Advisory Panel (hereafter referred to as the Panel) will meet to review and comment on recommendations made to the Director, TRICARE Management Activity, by the Pharmacy and Therapeutics Committee regarding the Uniform Formulary.

Due to scheduling difficulties the Uniform Formulary Beneficiary Advisory Panel was unable to finalize its agenda in time to publish notice of its meeting in the Federal Register for the 15 calendar days required by 41 CFR 102-3.150(a). Accordingly, the Committee Management Officer for the Department of Defense, pursuant to 41 CFR 102-3.150(b), waives the 15 calendar-day notification requirement.

DATES: The meeting will be held September 24, 2009, from 8 a.m. to 5 p.m. and is open to the public, but seating is limited. The panel will also conduct an Administrative Work Meeting from 7 a.m. to 8 a.m. that is closed to the public.

ADDRESSES: The meetings will be held at the Naval Heritage Center Theater, 701 Pennsylvania Avenue, NW., Washington, DC 20004.

FOR FURTHER INFORMATION CONTACT: Lieutenant Colonel Thomas Bacon, Designated Federal Officer, Uniform Formulary Beneficiary Advisory Panel, Skyline 5, Suite 810, 5111 Leesburg Pike, Falls Church, VA 22041-3206; (703) 681-2890 (phone), (703) 681-1940 (fax), e-mail: Baprequests@tma.osd.mil.

SUPPLEMENTARY INFORMATION:

Meeting Accessibility

Pursuant to 5 U.S.C. 552b, as amended, and 41 CFR 102-3.140 through 102-3.165, and the availability of space this meeting is open to the public. Seating is limited and will be provided only to the first 220 people signing in. All persons must sign in legibly.

Meeting Agenda

Sign-In; Welcome and Opening Remarks; Public Citizen Comments; Scheduled Therapeutic Class Reviews—Phosphodiesterase-5 Inhibitors and New Drugs in Previously Reviewed Classes; Drugs recommended for non-formulary placement due to non-compliance with 2008 NDAA Section 703; Panel Discussions and Vote, and comments following each therapeutic class review.

Administrative Work Meeting

Prior to the public meeting the Panel will conduct an Administrative Work Meeting from 7 a.m. to 8 a.m. to discuss administrative matters of the Panel. Pursuant to 41 CFR 102-3.160, the Administrative Work Meeting will be closed to the public.

Written Statements

Pursuant to 41 CFR 102-3.105(j) and 102-3.140, the public or interested organizations may submit written statements to the membership of the Panel at any time or in response to the stated agenda of a planned meeting. Written statements should be submitted to the Panel's Designated Federal Officer; the Designated Federal Officer's contact information can be obtained from the General Services Administration's Federal Advisory Committee Act Database at https://www.fido.gov/facadatabase/public.asp.

Written statements that do not pertain to the scheduled meeting of the Panel may be submitted at any time. However, if individual comments pertain to a specific topic being discussed at a planned meeting then these statements must be submitted no later than five business days prior to the meeting in question. The Designated Federal Officer will review all submitted written statements and provide copies to all the committee members.

Public Comments

In addition to written statements, the Panel will set aside 1 hour for individual or interested groups to address the Panel. To ensure consideration of their comments, individuals and interested groups should submit written statements as outlined in this notice, but if they still want to address the Panel then they will be afforded the opportunity to register to address the Panel. The Panel's Designated Federal Officer will have a “Sign Up Roster” available at the Panel meeting, for registration on a first-come, first-serve basis. Those wishing to address the Panel will be given no more than 5 minutes to present their comments, and at the end of the 1-hour time period no further public comments will be accepted. Anyone who signs up to address the Panel but is unable to do so due to the time limitation may submit their comments in writing; however, they must understand that their written comments may not be reviewed prior to the Panel's deliberation. Accordingly, the Panel recommends that individuals and interested groups consider submitting written statements instead of addressing the Panel.

Dated: September 3, 2009.
Patricia L. Toppings,
OSD Federal Register Liaison Officer, Department of Defense.

[FR Doc. E9-21744 Filed 9-9-09; 8:45 am]

BILLING CODE 5001-06-P